DEPARTMENT OF THE INTERIOR

Bureau of Land Management

[LLAZP02000.L51010000.FX0000.LVRWA09A2370; AZA 034425]

Notice of Intent To Prepare an Environmental Impact Statement for the Proposed Hyder Valley Solar Energy Project, Maricopa County, AZ

AGENCY: Bureau of Land Management, Interior.

ACTION: Notice of Intent.

SUMMARY: In compliance with the National Environmental Policy Act of 1969 (NEPA), as amended, the Bureau of Land Management (BLM), Arizona State Office, Phoenix, Arizona, intends to prepare an Environmental Impact Statement (EIS) and by this notice is announcing the beginning of the scoping process to solicit public comments and identify issues.

DATES: This notice initiates the public scoping process for the EIS. Comments on issues may be submitted in writing until June 21, 2010. The date(s) and location(s) of any scoping meetings will be announced at least 15 days in advance through local media, newspapers, and the following BLM Web site: http://www.blm.gov/az/st/en.html. In order to be included in the Draft EIS, all comments must be received prior to the close of the scoping period or 15 days after the last public meeting, whichever is later. The BLM will provide additional opportunities for public participation upon publication of the Draft EIS.

ADDRESSES: You may submit comments related to the Hyder Valley Solar Energy Project by any of the following methods:

• E-mail: HyderValley_Solar@blm.gov.

• Mail: Bureau of Land Management, Arizona State Office, Attention: Eddie Arreola, Supervisory Project Manager, Hyder Valley Solar EIS, One North Central Avenue, Suite 800, Phoenix, AZ 85004.

FOR FURTHER INFORMATION CONTACT: For further information and/or to have your name added to our mailing list, contact Eddie Arreola, Supervisory Project Manager, telephone 602-417-9505; by mail or other delivery service Bureau of Land Management, Arizona State Office, Attention: Eddie Arreola, Supervisory Project Manager, Hyder Valley Solar EIS, One North Central Avenue, Suite 800, Phoenix, AZ 85004; or by e-mail at Eddie_Arreola@blm.gov.

SUPPLEMENTARY INFORMATION: The applicant, Pacific Solar Investments, Inc., has requested a right-of-way (ROW) authorization to construct and operate a 4,500 acre concentrated solar thermal (CST) power plant that could provide up to 350 megawatts (MW) of solar generation with options for wet or dry cooling and possibly with thermal storage capabilities. The project would include a 230-kilovolt (kV) transmission line, water supply facilities, a natural gas pipeline, an access road, and other related facilities in the Hyder Valley, north of Interstate 8, east of the town of Hyder, and west of the Oatman Mountains in Maricopa County, AZ. The facility would be expected to operate for approximately 30 years. A ROW grant for the construction, operation, and maintenance of this Project would be required from the BLM. Additional applicable permits from Federal, State, and local agencies will also be required.

The solar facility would consist of solar fields made up of single-axis-tracking parabolic trough solar collectors. Each collector contains a linear parabolic-shaped reflector to focus sun light on a heat collection element. The collectors would track the sun from east to west each day to ensure the sun is continuously focused on the collection element. A heat transfer fluid would be heated as it passes through the element and then circulated through a series of heat exchangers to generate high-pressure steam. The steam would power a generator to produce electricity. The plant would be made up of one or more power blocks. Each power block would be located near the center of its respective solar field and have its own generator.

Both wet-cooled and dry-cooled options are being considered for this Project, and will be addressed in the EIS. Maximum water use for the Project is initially estimated to be 1,750 to 2,800 acre-feet per year. A mechanical draft cooling tower, cooling water circulating pumps, circulating water piping, valves, and instrumentation would also be located within the facility. Multiple evaporation ponds would be constructed to hold discharge from the cooling towers and steam cycle that could no longer be recycled back into the plant.

Pacific Solar Investments is also considering the use of thermal energy storage. Thermal energy storage would provide the option of transferring some or all of the solar energy into molten salt contained in insulated tanks. Using heat exchangers and pumps designed for molten salt, the heat could subsequently be extracted to provide generation after sunset.

The Project would be connected to the electrical grid using a newly constructed 230-kV transmission line of approximately 5 to 7 miles long with a point of interconnection at a proposed Hyder substation. The proposed Hyder substation would be owned and operated by Arizona Public Service (APS). The length of the transmission line will depend on the exact location of the Hyder substation, which has not yet been determined by APS. The transmission line and other related facilities that would be developed specifically for this Project would be included in the EIS analysis and included in the ROW grant as appropriate.

The purpose of the public scoping process is to determine relevant issues that will influence the scope of the environmental analysis, including alternatives, and guide the process for developing the EIS. At present, the BLM has identified water resources as a preliminary issue; however, the analysis will include the site-specific impacts on air quality, geologic resources, soils, water resources, biological resources, cultural resources, paleontological resources, visual resources, land use, transportation, noise, socioeconomics, public health and safety, and other resources and issues identified during scoping and project collaboration.

The BLM will use and coordinate the NEPA commenting process to satisfy the public involvement process for Section 106 of the National Historic Preservation Act (16 U.S.C. 470f) as provided for in 36 CFR 800.2(d)(3). Native American tribal consultations will be conducted and tribal concerns, including impacts on Indian trust assets, will be considered. Federal, State, and local agencies, along with other stakeholders that may be interested or affected by the BLM's decision on this Project are invited to participate in the scoping process and, if eligible, may request or be requested by the BLM to participate as a cooperating agency.

Before including your address, phone number, e-mail address, or other personal identifying information in your comment, you should be aware that your entire comment-including your personal identifying information-may be made publicly available at any time. While you can ask us in your comment to withhold your personal identifying information from public review, we cannot guarantee that we will be able to do so.

Authority: 40 CFR 1501.7.

Raymond Suazo,
Acting State Director.

[FR Doc. 2010-12138 Filed 5-19-10; 8:45 am]

BILLING CODE 4310-32-P